DEPARTMENT OF DEFENSE

Department of the Air Force

Notice of Intent To Prepare An Environmental Impact Statement for Expansion of Childcare Servicing the Area North of the Eglin Test and Training Complex, Eglin Air Force Base, Florida

AGENCY: Department of Defense, Department of the Air Force.

ACTION: Notice of intent.

SUMMARY: The Department of the Air Force (DAF) is issuing this Notice of Intent (NOI) to prepare an Environmental Impact Statement (EIS) assessing the potential social, economic, and environmental impacts associated with the Department of the Army (DoA) constructing and operating a new childcare center on Camp Bull Simons, Eglin Air Force Base (AFB), Florida; and the Department of the Air Force (DAF) constructing and operating one or more additional childcare centers in the area north of the Eglin Test and Training Complex (ETTC), Eglin AFB, Florida. DoA is a tenant of Eglin AFB on Camp Bull Simons. The purpose of the Proposed Action is to provide childcare capacity to support the needs of the DoA personnel assigned to Camp Bull Simons as well as DAF personnel living north of the ETTC. The Proposed Action is needed to address the current childcare deficiencies and hardships experienced by DoA and DAF military families residing north of the ETTC. The distance to the existing child development centers (CDCs) on Eglin Main and Hurlburt Field is too great to support these military families where they live and work. The DoA is proposing to provide childcare at a location to be determined on Camp Bull Simons. DAF is proposing to provide childcare at one or more of four alternative locations to include State Road (SR) 85 and Rattlesnake Bluff Road, Crestview West, Crestview Central, and Crestview East. None of the alternative locations are currently under the ownership or control of the federal government.

DATES: A public scoping period will take place starting from the date of this NOI publication in the Federal Register and will last for 30 days. This scoping period will be conducted in compliance with the National Environmental Policy Act (NEPA) and the National Historic Preservation Act pursuant to Code of Federal Regulations title 36, section 800.2(d), which will also fulfill the section 106 requirements for public notification. Identification of potential alternatives, information, and analyses relevant to the Proposed Action are requested and will be accepted at any time during the EIS process. To ensure DAF has sufficient time to consider public input in the preparation of the Draft EIS, scoping comments should be submitted to 96CEG.CEIEA.NEPAPublicComments@us.af.mil within the scoping period. The Draft EIS is anticipated in Winter 2024, which will include a public hearing held in the city of Crestview as part of the 45-day comment period. The Final EIS is anticipated in Summer 2024. The Record of Decision would be approved and signed no earlier than 30 days after the Final EIS.

ADDRESSES: The Eglin public website (https://www.eglin.af.mil/About-Us/Eglin-Documents/) provides information on the EIS and the scoping process (e.g., environmental documents, maps/figures, project details, etc.) as well as a downloadable comment form to complete and return either electronically or by mail. Scoping comments may also be submitted to Ms. Ilka Cole, 96th Test Wing Public Affairs, 101 West D Avenue, Room 238, Eglin AFB, FL 32542 or by email to 96CEG.CEIEA.NEPAPublicComments@us.af.mil. EIS inquiries and requests for digital or print copies of scoping materials are available upon request at the email or mailing address provided. For printed material requests, the standard U.S. Postal Service shipping timeline will apply. Members of the public who want to receive future mailings informing them about the availability of the Draft and Final EIS are encouraged to submit a comment that includes their name and email or postal mailing address.

FOR FURTHER INFORMATION CONTACT: Ms. Ilka Cole, 96th Test Wing Public Affairs, 101 West D Avenue, Room 238, Eglin AFB, FL 32542; Telephone: (850) 882-2936; or email: 96CEG.CEIEA.NEPAPublicComments@us.af.mil.

SUPPLEMENTARY INFORMATION: DAF proposes to construct one or more CDCs, each of which could accommodate up to 305 children, The CDC on Camp Bull Simons is expected to accommodate 232 children who cannot be accommodated by current facilities. The new facilities would measure up to 37,600 square feet (SF) plus an additional 75,000 SF parking lot and access roads. Each new facility would require a minimum of 14 acres to accommodate antiterrorism/force protection standoff measures. Six alternatives, including a no action alternative, have been identified by the 96th Civil Engineer Group and the 7th Special Forces Group as potential sites for a permanent CDC facility:

1. No Action—A CDC would not be constructed within the areas north of the ETTC. This alternative services as a benchmark against which the other alternatives can be compared.

2. Alternative 1, Camp Bull Simons—Construct a new CDC on Camp Bull Simons in the northern portion of the ETTC.

3. Alternative 2, SR 85 and Rattlesnake Bluff Road—Construct a new CDC in the northern portion of the ETTC near the intersection of SR 85 and Rattlesnake Bluff Road. As part of this alternative, the DAF would need to construct a traffic overpass.

4. Alternative 3, Crestview West—Under this alternative, the DAF would acquire approximately 14.1 acres of commercially available real estate property between Whitehurst Lane and Point Center Road within the city of Crestview to construct a CDC.

5. Alternative 4, Crestview Central—Under this alternative, the DAF would acquire approximately 38.5 acres of commercially available real estate property located on Retta Lane within the city of Crestview to construct a CDC.

6. Alternative 5, Crestview East—Under this alternative, the DAF would acquire approximately 30 acres of commercially available real estate property located on Retta Lane and adjacent to Raspberry Road within the city of Crestview to construct a CDC.

Resource areas being analyzed for impacts in the EIS include air quality, water resources, geological resources, cultural resources, biological resources, land use, noise, infrastructure, hazardous materials and wastes, socioeconomics, environmental justice, and safety. The DAF will consult with appropriate regulatory agencies and federally-recognized Native American Tribes to determine the potential for significant impacts. Consultation will be incorporated into the preparation of the EIS and will possibly include, but not be limited to, consultation under section 7 of the Endangered Species Act, and consultation under section 106 of the National Historic Preservation Act. A federal Coastal Zone Management Act determination will be conducted and coordinated with the Florida State Clearinghouse to determine consistency of the action with the Florida Coastal Management Program. Specific environmental permits will be identified as part of the Clearinghouse review. At a minimum, the DAF anticipates permits associated with the Clean Air Act and Clean Water Act will be required. An Environmental Resource Permit will also be required from the state of Florida for any potential wetland impacts and/or stormwater drainage modifications.

Lead and Cooperating Agency Status: The DAF is the lead federal agency for this EIS action. Both the U.S. Army and the city of Crestview are participating in the DAF EIS process as cooperating agencies.

Scoping and Agency Coordination: To define the full range of issues to be evaluated in the EIS effectively, the DAF will determine the scope of the analysis by soliciting comments from interested local, state, and federal elected officials and agencies, federally recognized Native American Tribes, as well as interested members of the public and others.

Implementation of the Proposed Action to expand childcare services in the area north of the ETTC at Eglin AFB, FL would potentially impact wetlands and/or floodplains and would therefore be subject to Executive Order (E.O.) 11990, “Protection of Wetlands,” and E.O. 11988, “Floodplain Management.” Regulatory agencies with special expertise in wetlands and floodplains, such as the U.S. Army Corps of Engineers, will be contacted and asked to comment. Consistent with E.O. 11988 and E.O. 11990, this NOI initiates early public review of the alternatives and invites public comments and identification of other potential alternatives. Implementation of the Proposed Action also has the potential to impact historic properties. Consultation with the appropriate State Historic Preservation Officer and federally-recognized Native American Tribes will occur as part of this process. The completion of consultations and any required cultural resources fieldwork will comply with section 106 of the National Historic Preservation Act, and this compliance will assist with the development and selection of alternatives by assessing ways to avoid, minimize, or mitigate any adverse effects to historic properties. The documents produced during the section 106 process will be included in the NEPA document, as an appendix. Concurrent with the publication of this NOI, public scoping notices will be announced locally inviting the public to identify and submit comments on potential alternatives, information, and analyses relevant to the Proposed Action as part of the EIS process.

Tommy W. Lee,
Acting Air Force Federal Register Liaison Officer.

[FR Doc. 2023-18107 Filed 8-22-23; 8:45 am]

BILLING CODE 5001-10-P